DEPARTMENT OF HOMELAND SECURITY

Federal Emergency Management Agency

[Docket No. FEMA-2007-0013]

National Advisory Council

AGENCY: Federal Emergency Management Agency, DHS.

ACTION: Notice of teleconference meeting.

SUMMARY: The National Advisory Council (NAC) will be holding a teleconference meeting for purposes of discussing governance and standard operating procedures. The teleconference meeting will be open to the public.

DATES: Meeting Date: Tuesday, December 18, 2007, 1 p.m.-2 p.m. e.s.t. Comment Date: Written comments must be received by December 14, 2007.

ADDRESSES: The meeting will be held via teleconference only. Members of the public who wish to obtain the call-in number, access code, and other information for the public teleconference may contact Alyson Price as listed in the FOR FURTHER INFORMATION CONTACT section by December 14, 2007.

All written comments must be received by December 14, 2007. All submissions received must include the docket number FEMA-2007-0013 and may be submitted by any one of the following methods:

Federal eRulemaking Portal: http://www.regulations.gov. Follow instructions for submitting comments on the Web site.

E-mail: FEMA-RULES@dhs.gov. Include docket number in the subject line of the message.

Facsimile: (866) 466-5370.

Mail: Alyson Price, Designated Federal Officer, Federal Emergency Management Agency, 500 C Street, SW., (E Street, 3rd Floor), Washington, DC 20472.

Hand Delivery/Courier: National Advisory Council, DFO c/o Rules Docket Clerk, Office of the Chief Counsel, Federal Emergency Management Agency, Room 835, 500 C Street, SW., Washington, DC 20472.

Instructions: All submissions received must include the docket number: FEMA-2007-0013. Comments received will also be posted without alteration at http://www.regulations.gov, including any personal information provided. You may want to read the Privacy Act Notice located on the Privacy and Use Notice link on the Administration Navigation Bar of the Web site http://www.regulations.gov.

Docket: For access to the docket to read background documents or comments received by the National Advisory Council, go to http://www.regulations.gov.

FOR FURTHER INFORMATION CONTACT: Alyson Price, Designated Federal Officer, Federal Emergency Management Agency, 500 C Street, SW., (E Street, 3rd Floor), Washington, DC 20472, telephone 202-646-3746, fax 202-646-3061, and e-mail Alyson.Price@dhs.gov. The NAC's Web site can be located at: http://www.fema.gov/about/nac/.

SUPPLEMENTARY INFORMATION: Notice of this meeting is given under the Federal Advisory Committee Act (FACA), Public Law 92-463, as amended (5 U.S.C. App. 1 et seq.). The NAC will be holding a teleconference meeting for purposes of discussing governance and standard operating procedures. This meeting is open to the public. Although members of the public will not be allowed to comment orally during the meeting, they may file a written statement with the NAC before the date of the meeting. The NAC's Web site can be located at: http://www.fema.gov/about/nac/.

Agenda of Council Meeting, December 18, 2007

The tentative agenda will include discussions on governance and standard operating procedures for the NAC. A final agenda will be available on the NAC Web site at http://www.fema.gov/about/nac/.

Dated: November 26, 2007.
R. David Paulison,
Administrator, Federal Emergency Management Agency.

[FR Doc. E7-23216 Filed 11-29-07; 8:45 am]

BILLING CODE 9110-21-P